DEPARTMENT OF TRANSPORTATION

Federal Aviation Administration

14 CFR Part 39

[Docket No. 2003-NE-02-AD]

RIN 2120-AA64

Airworthiness Directives; Honeywell International Inc. (formerly AlliedSignal Inc., Garrett Turbine Engine Company, and AiResearch Manufacturing Company of Arizona) TPE331-10 and -11 Series Turboprop Engines

AGENCY: Federal Aviation Administration (FAA), DOT.

ACTION: Notice of proposed rulemaking (NPRM).

SUMMARY: The FAA is proposing to adopt a new airworthiness directive (AD) that applies to Honeywell International Inc. (formerly AlliedSignal Inc., Garrett Turbine Engine Company, and AiResearch Manufacturing Company of Arizona) TPE331-10 and -11 series turboprop engines with certain part numbers and serial numbers of first stage turbine disks. This proposal would require initial and repetitive fluorescent penetrant inspections (FPIs) and eddy current inspections (ECIs) of the affected first stage turbine disks. This proposal is prompted by a report of a first stage turbine disk found cracked at the disk bore. We are proposing this AD to prevent cracked first stage turbine disks from causing uncontained disk separation, resulting in engine damage and shutdown.

DATES: We must receive any comments on this proposed AD by October 7, 2003.

ADDRESSES: Use one of the following addresses to submit comments on this proposed AD:

• By mail: Federal Aviation Administration (FAA), New England Region, Office of the Regional Counsel, Attention: Rules Docket No. 2003-NE-02-AD, 12 New England Executive Park, Burlington, MA 01803-5299.

• By fax: (781) 238-7055.

• By e-mail: 9-ane-adcomment@faa.gov.

You may get the service information identified in this proposed AD from Honeywell Engines, Systems & Services, Technical Data Distribution, M/S 2101-201, P.O. Box 52170, Phoenix, AZ 85072-2170; telephone: (602) 365-2493 (General Aviation); (602) 365-5535 (Commercial); fax: (602) 365-5577 (General Aviation and Commercial).

You may examine the AD docket at the FAA, New England Region, Office of the Regional Counsel, 12 New England Executive Park, Burlington, MA.

FOR FURTHER INFORMATION CONTACT: Joseph Costa, Aerospace Engineer, Los Angeles Aircraft Certification Office, FAA, Transport Airplane Directorate, 3960 Paramount Blvd., Lakewood CA 90712-4137; telephone: (562) 627-5246; fax (562) 627-5210.

SUPPLEMENTARY INFORMATION:

Comments Invited

We invite you to submit any written relevant data, views, or arguments regarding this proposal. Send your comments to an address listed under ADDRESSES. Include “AD Docket No. 2003-NE-02-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us through a nonwritten communication, and that contact relates to a substantive part of this proposed AD, we will summarize the contact and place the summary in the docket. We will consider all comments received by the closing date and may amend the proposed AD in light of those comments.

We are reviewing the writing style we currently use in regulatory documents. We are interested in your comments on whether the style of this document is clear, and your suggestions to improve the clarity of our communications that affect you. You may get more information about plain language at http://www.plainlanguage.gov.

Examining the AD Docket

You may examine the AD Docket (including any comments and service information), by appointment, between 8 a.m. and 4:30 p.m., Monday through Friday, except Federal holidays. See ADDRESSES for the location.

Discussion

On October 23, 2001, the FAA received a report of a first stage turbine disk, part number (P/N) 3101520-1, found cracked in the bore area. The manufacturer's investigation verified that the crack originated from a localized, melt related, low alloy area of the disk. The manufacturer has determined that certain serial numbers (SNs) of P/N 3101520-1 first stage turbine disks, produced from the same forging billet, may also contain localized, melt related, low alloy areas. Some of the P/N 3101520-1 disks produced from this same forging billet were later converted to P/N 3107079-1 first stage turbine disks. Therefore, certain SNs of P/N 3107079-1 first stage turbine disks also may contain localized, melt related, low alloy areas. At the time of conversion, however, P/N 3107079-1 first stage turbine disks received an initial FPI and ECI, so these disks only require repetitive inspections. This condition, if not corrected, could result in uncontained disk separation, resulting in engine damage and shutdown.

Relevant Service Information

We have reviewed and approved the technical contents of Honeywell International Inc. Alert Service Bulletin (ASB) TPE331-A72-2102, dated March 28, 2002, that describes procedures for initial and repetitive FPI of the SNs of first stage turbine disks, P/N 3101520-1, and for only repetitive FPI of the SNs of disks, P/N 3107079-1 listed in Table 1 of the ASB. For disks that pass FPI, the ASB also requires that those disks pass ECI.

FAA's Determination and Requirements of the Proposed AD

We have evaluated all pertinent information and identified an unsafe condition that is likely to exist or develop on other products of this same type design. Therefore, we are proposing this AD, which would require initial and repetitive FPIs of the SNs of first stage turbine disks P/N 3101520-1, and only repetitive FPIs of the disks P/N 3107079-1 listed in Table 1 of the ASB, and for disks that pass FPI, perform an ECI. The proposed actions would be required to be done in accordance with the ASB described previously.

Changes to 14 CFR Part 39—Effect on the Proposed AD

On July 10, 2002, we published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

There are approximately 72 TPE331-10 and -11 series turboprop engines of the affected design in the worldwide fleet. We estimate that 36 engines installed on airplanes of U.S. registry would be affected by this proposed AD. We estimate that it would take approximately 5 work hours per engine to perform the proposed disk inspections during a scheduled disassembly, and 40 work hours per engine to perform the proposed disk inspections for an unscheduled disassembly. The average labor rate is $65 per work hour. Required parts would cost approximately $5,000 per engine. Based on these figures, the total cost of the proposed AD to U.S. operators for disassembly, inspections, and part replacement is estimated to be $105,300.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 2003-NE-02-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Honeywell International Inc. (formerly AlliedSignal Inc., Garrett Turbine Engine Company and AiResearch Manufacturing Company of Arizona): Docket No. 2003-NE-02-AD.

Comments Due Date

(a) The FAA must receive comments on this airworthiness directive (AD) action by October 7, 2003.

Affected ADs

(b) None.

Applicability

(c) This AD applies to Honeywell International Inc. (formerly AlliedSignal Inc., Garrett Turbine Engine Company and AiResearch Manufacturing Company of Arizona) TPE331-10-501C, -10-511C, -10-501K, -10-511K, -10-501M, -10-511M, -10AV-511B, -10AV-511M, -10GP-511D, -10GT-511D, -10N-511S, -10N-512S, -10N-513S, -10N-514S, -10N-515S, -10N-531S, -10N-532S, -10N-533S, -10N-534S, -10N-535S, -10P-511D, -10R-501C, -10R-502C, -10R-511C, -10R-512C, -10R-513C, -10T-511D, -10T-511K, -10T-511M, -10T-512K, -10T-513K, -10T-515K, -10T-516K, -10T-517K, -10U-501G, -10U-502G, -10U-511G, -10U-512G, -10U-503G, -10U-513G, -10UA-511G, -10UF-501H, -10UF-511H, -10UF-512H, -10UF-513H, -10UF-514H, -10UF-515H, -10UF-516H, -10UG-513H, -10UG-514H, -10UG-515H, -10UG-516H, -10UGR-513H, -10UGR-514H, -10UGR-516H, -10UR-513H, -10UR-516H, -11U-601G, -11U-602G, -11U-611G, and -11U-612G turboprop engines with first stage turbine disk part number (P/N) 3101520-1 or P/N 3107079-1, with serial numbers (SNs) listed in Table 1 of Honeywell International Inc. Alert Service Bulletin (ASB) TPE331-A72-2102, dated March 28, 2002. These engines are installed on, but not limited to Mitsubishi MU-2B series, Construcciones Aeronauticas S.A. (CASA) C-212 series, Fairchild SA226 series (Swearingen Merlin and Metro series), Twin Commander 680 and 690 series (Jetprop Commander), Dornier 228 series, Beech 18 and 45 series, Beech Models JRB-6, 3N, 3TM, and B100, Cessna Aircraft Company Model 441 Conquest, and Jetsteam 3201 series airplanes.

Unsafe Condition

(d) This AD is prompted by a report of a first stage turbine disk found cracked at the disk bore. We are issuing this AD to prevent cracked first stage turbine disks, part number (P/N) 3101520-1 or P/N 3107079-1, with serial numbers listed in Table 1 of Honeywell International Inc. ASB TPE331-A72-2102, dated March 28, 2002, from causing uncontained disk separation, resulting in engine damage and shutdown.

Compliance

(e) You are responsible for having the actions required by this AD performed within the compliance times specified unless the actions have already been done.

Initial Inspection

(f) Perform a fluorescent penetrant inspection (FPI) of first stage turbine disks, P/N 3101520-1, in accordance with 2.A.(4)(a) through 2.A.(4)(d) of Accomplishment Instructions of ASB TPE331-A72-2102, dated March 28, 2002, and the following:

(1) For first stage turbine disks with 4,100 cycles-since-new (CSN) or less, inspect at next access, but no later than 4,500 CSN.

(2) For first stage turbine disks with more than 4,100 CSN, inspect at next access, but within 400 cycles-in-service (CIS) after the effective date of this AD.

(3) First stage turbine disks that pass FPI must be eddy current inspected (ECI) before they are returned to service. Information on procedures for returning disks to Honeywell Engines, Systems, & Services, for ECI, can be found in ASB TPE331-A72-2102, dated March 28, 2002.

(4) First stage turbine disks, P/N 3107079-1, do not require initial inspection because they received an initial FPI and ECI at the time of conversion.

Repetitive Inspections

(g) Perform repetitive FPIs of first stage turbine disks P/N 3101520-1 and P/N 3107079-1, in accordance with 2.B.(3)(a) through 2.B.(3)(d) of Accomplishment Instructions of ASB TPE331-A72-2102, dated March 28, 2002 and the following:

(1) FPI first stage turbine disks at each scheduled hot section inspection.

(2) First stage turbine disks that pass FPI must be ECI before they are returned to service. Information on procedures for returning disks to Honeywell Engines, Systems, & Services, for ECI, can be found in ASB TPE331-A72-2102, dated March 28, 2002.

Definition

(h) For the purposes of this AD, next access is defined as when the turbine wheel assembly is removed from the engine.

Alternative Methods of Compliance (AMOCs)

(i) You must request AMOCs as specified in 14 CFR part 39.19. All AMOCs must be approved by the Manager, Los Angeles Aircraft Certification Office, FAA.

Material Incorporated by Reference

(j) The FPIs must be done in accordance with Honeywell International Inc. ASB TPE331-A72-2102, dated March 28, 2002. Approval of incorporation by reference from the Office of the Federal Register is pending.

Related Information

(k) None.

Issued in Burlington, Massachusetts, on August 1, 2003.
Francis A. Favara,
Acting Manager, Engine and Propeller Directorate, Aircraft Certification Service.

[FR Doc. 03-20231 Filed 8-7-03; 8:45 am]

BILLING CODE 4910-13-P